DEPARTMENT OF THE INTERIOR

Fish and Wildlife Service

[FWS-R9-IA-2012-N157; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) the application was filed in good faith, (2) the granted permit would not operate to the disadvantage of the endangered species, and (3) the granted permit would be consistent with the purposes and policy set forth in section 2 of the ESA.

Permit No. | Applicant | Receipt of application Federal Register notice | Permit issuance date
Endangered Species
51599A | Kurt Wille | 76 FR 61733; October 5, 2011 | November 16, 2011.
57058A | Hahn Laboratory, University of Pennsylvania School of Medicine | 77 FR 298; January 4, 2012 | April 12, 2012.
54173A | Hahn Laboratory/University of Pennsylvania School of Medicine | 77 FR 2314; January 17, 2012 | April 12, 2012.
62465A | John Jackman | 77 FR 9687; February 17, 2012 | March 22, 2012.
60964A | Scott Jennings | 77 FR 9687; February 17, 2012 | March 22, 2012.
58210A | Point Defiance Zoo & Aquarium | 77 FR 9687; February 17, 2012 | May 4, 2012.
65782A, 65783A, 65785A, 65787A, 65789A, 65790A, 65792A, 65793A, 65796A, 66550A, 66549A, 66547A, 66546A, and 66548A | Feld Entertainment, Inc. | 77 FR 17494; March 26, 2012 | May 14, 2012.
59285A, 65776A, 65778A, 65780A, and 65781A, | Feld Entertainment, Inc. | 77 FR 17494; March 26, 2012 | May 17, 2012.
71576A | U.S. Fish and Wildlife Service | 77 FR 22604; April 16, 2012 | June 18, 2012.
72333A | Lonny Traweek | 77 FR 24510; April 24, 2012 | June 19, 2012
Marine Mammals
58292A | Mote Marine Laboratory | 77 FR 12870; March 2, 2012 | June 20, 2012.
48161A | Dr. Martin Levin, University of Connecticut | 77 FR 22604; April 16, 2012 | June 20, 2012.
220876 | Alaska Department of Fish and Game | 77 FR 24510; April 24, 2012 | June 22, 2012.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2012-15838 Filed 6-27-12; 8:45 am]

BILLING CODE 4310-55-P